DEPARTMENT OF DEFENSE

Department of the Army; Corps of Engineers

Intent To Prepare a Draft Environmental Impact Statement for Proposed Dam Powerhouse Rehabilitations and Possible Operational Changes at the Wolf Creek, Center Hill, and Dale Hollow Dams, Kentucky and Tennessee

AGENCY: U.S. Army Corps of Engineers, DOD.

ACTION: Notice of intent.

SUMMARY: The Corps of Engineers (Corps), Nashville District, will prepare a Draft Environmental Impact Statement (DEIS) relating to proposed dam powerhouse rehabilitations and possible operational changes at the Wolf Creek, Center Hill, and Dale Hollow Dams in Kentucky and Tennessee. The Corps is studying the possible impacts of modifying existing equipment. Due to improvements in technology, rehabilitating the equipment could make it possible to produce more power from the same amount of water discharged. Changes in equipment and operational procedures could also cause higher tailwater heights and velocities, but as there is a limited amount of water they could be for shorter duration. In addition, alterations to flow regimes are being considered to provide minimum flows when hydropower releases are shut off. If improvements are successful, other dams may eventually be considered for similar changes. This study was begun in 2003 and a Notice of Intent was published in the Federal Register on September 25, 2003; however, due to funding constraints work ceased before a Draft EIS could be completed. The proposed rehabilitation of the powerhouse and generating units is not related to the dam seepage repairs that are ongoing at Center Hill and Wolf Creek Dams.

DATES: Written scoping comments on issues to be considered in the DEIS will be accepted by the Corps of Engineers until December 26, 2007.

ADDRESSES: Scoping comments should be mailed to: Mr. Chip Hall, Project Planning Branch, Nashville District Corps of Engineers, P.O. Box 1070 (PM-P), Nashville, TN 37202-1070, or may be e-mailed to hydropower.rehab@Lrn02.usace.army.miL.

FOR FURTHER INFORMATION CONTACT: For additional information concerning the proposed action and DEIS, please contact Chip Hall, Project Planning Branch, (615) 736-7666.

SUPPLEMENTARY INFORMATION: 1. The intent of the DEIS is to provide NEPA compliance for changes in design features and operating procedures of the Wolf Creek, Center Hill, and Dale Hollow Dams in the Cumberland River system. All three dams are of a similar age, have similar turbines and related equipment, and have similar proposed rehabilitation and operational changes. Operating and equipment changes that will be studied could potentially affect more than a combined total 60 miles of tailwaters. This would primarily be a result of efforts to raise dissolved oxygen levels to meet the minimum state water quality standards, although flows and elevations could also be altered for a significant distance. The Cumberland River includes ten dams and reservoirs. The 10 projects are managed as one system with the goal of managing the flow of water through the entire Cumberland River basin. If the proposed changes prove desirable, they could set a precedent for future rehabilitations at other hydropower facilities. The Corps, therefore, proposes to evaluate these dams programmatically.

2. The three dams considered under this Environmental Impact Statement, Wolf Creek Dam, Center Hill Dam, and Dale Hollow Dam, were authorized in the 1930s and constructed in the 1940s before there was a significant concern for environmental protection. They all predate the NEPA, the Clean Water Act, the Fish and Wildlife Coordination Act, and many other related environmental laws and regulations. Together these three Corps projects affect the temperatures, flows, and dissolved oxygen (DO) levels of up to 250 miles of the Cumberland River and its tributaries. The Corps is studying the possible impacts of modifying existing structures or operating procedures to improve DO in the tailwaters. Alterations to flow regimes are being considered to provide minimum flows below the dams when hydropower releases are shut off.

3. Key proposed project features to be evaluated in the DEIS include the following:

a. Rehabilitation of turbines including Auto Venting Turbines to improve DO levels in the tailwaters.

b. Minimum releases to ensure continuous flows between periods of generation.

c. The effects of increased tailwater flows on tailwater parks, downstream fishing areas, adjacent low lying farmlands, erosion of riverbanks, cultural archaeological and historic sites, and changes to the hydraulics and hydrology of the rivers.

d. Other alternatives studied will include: No Action; restoration to the “original” 1948 condition; refurbishing existing units; oxygenating water in the dam forebays prior to release; and spilling water through the sluice gates.

4. This notice serves to solicit scoping comments from the public; federal, state and local agencies and officials; Indian Tribes; and other interested parties in order to consider and evaluate the impacts of this proposed activity. Any comments received during the comment period will be considered in the NEPA process. Comments are used to assess impacts on fish and wildlife, endangered species, historic properties, water quality, water supply and conservation, economics, aesthetics, wetlands, flood hazards, floodplain values, land use, navigation, shore erosion and accretion, recreation, energy needs, safety, food and fiber production, mineral needs, considerations of property ownership, general environmental effects, cumulative effects, and in general, the needs and welfare of the people. Public meetings may be held, however, times, dates, or locations have not been determined.

5. Other federal, state and local approvals required for the proposed work include coordination with the U.S. Fish and Wildlife Service.

6. Significant issues to be analyzed in depth in the DEIS include impacts to tailwater fisheries, recreation, economics, water quality, historic and cultural resources, streambank erosion, future power demands, and cumulative impacts. The DEIS should be available in January 2008.

Bernard R. Lindstrom,
Lieutenant Colonel, Corps of Engineers, District Engineer.

[FR Doc. E7-22959 Filed 11-23-07; 8:45 am]

BILLING CODE 3710-GF-P